DEPARTMENT OF COMMERCE

International Trade Administration

[A-570-890]

Wooden Bedroom Furniture From the People's Republic of China: Notice of Partial Rescission of Antidumping Duty Administrative Review

AGENCY: Import Administration, International Trade Administration, Department of Commerce.

DATES: Effective Date: September 2, 2009.

FOR FURTHER INFORMATION CONTACT: Jeffrey Pedersen or David Edmiston, AD/CVD Operations, Office 4, Import Administration, International Trade Administration, U.S. Department of Commerce, 14th Street and Constitution Avenue, NW. Washington, DC 20230, telephone: (202) 482-2769 or (202) 482-0989, respectively.

SUPPLEMENTARY INFORMATION:

Background

On January 4, 2005, the Department of Commerce (Department) published in the Federal Register the antidumping duty order on wooden bedroom furniture from the People's Republic of China (PRC) (furniture order). See Notice of Amended Final Determination of Sales at Less Than Fair Value and Antidumping Duty Order: Wooden Bedroom Furniture From the People's Republic of China, 70 FR 329 (January 4, 2005). On January 5, 2009, the Department published a notice of opportunity to request an administrative review of the furniture order. See Antidumping or Countervailing Duty Order, Finding, or Suspended Investigation: Opportunity to Request Administrative Review, 74 FR 265 (January 5, 2009).

The Department received multiple timely requests for an administrative review of the furniture order and on February 26, 2009, in accordance with section 751(a) of Tariff Act of 1930, as amended (the Act), published in the Federal Register a notice of the initiation of an administrative review of that order. See Initiation of Antidumping Duty Administrative Review, 74 FR 8776 (February 26, 2009) (Initiation Notice). The review was initiated with respect to 200 companies or groups of companies, and covers the period from January 1, 2008, through December 31, 2008.

Partial Rescission of Review

Pursuant to 19 CFR 351.213(d)(1), the Department will rescind an administrative review, in whole or in part, if the party that requested the review withdraws its request within 90 days of the date of publication of the notice of initiation of the requested review. Because all requesting parties withdrew their respective requests for an administrative review of the following entities within 90 days of the date of publication of the notice of initiation, the Department is rescinding this review with respect to these entities, in accordance with 19 CFR 351.213(d)(1):

• Ace Furniture & Crafts Ltd. (a.k.a. Deqing Ace Furniture and Crafts Limited)

• Alexandre International Corp., Southern Art Development Limited,¹ Alexandre Furniture (Shenzhen) Co., Ltd., Southern Art Furniture Factory

• Art Heritage International, Ltd., Super Art Furniture Co., Ltd., Artwork Metal & Plastic Co., Ltd., Jibson Industries Ltd., Always Loyal International

• Asia Building Materials Limited

• Billy Wood Industrial (Dong Guan) Co., Ltd., Great Union Industrial (Dongguan) Co., Ltd., Time Faith Limited ¹

• C.F. Kent Co., Inc., C.F. Kent Hospitality, Inc., Shanghai Kent Furniture Co., Ltd., Shanghai Hospitality Product Mfg., Co., Ltd.

• Changshu HTC Import & Export Co., Ltd.

• Cheng Meng Furniture (PTE) Ltd., Cheng Meng Decoration & Furniture (Suzhou) Co., Ltd.

• Chuan Fa Furniture Factory

• Clearwise Company Limited ¹

• Contact Co., Ltd.

• Dalian Guangming Furniture Co., Ltd.

• Dalian Huafeng Furniture Co., Ltd.

• Denny's Furniture Associates Corp., Denny's International Co., Ltd.

• Der Cheng Wooden Works, Der Cheng Furniture Co., Ltd.

• Dongguan Bon Ten Furniture Co., Ltd.

• Dongguan Cambridge Furniture Co., Glory Oceanic Company ² Limited ¹

• Dongguan Creation Furniture Co., Ltd., Creation Industries Co., Ltd.

• Dongguan Hero Way Woodwork Co., Ltd., Dongguan Da Zhong Woodwork Co., Ltd., Hero Way Enterprises Ltd., Well Earth International Ltd.

• Dongguan Grand Style Furniture Co. Ltd., Hong Kong Da Zhi Furniture Co., Ltd.

• Dongguan Great Reputation Furniture Co., Ltd.

• Dongguan Hung Sheng Artware Products Co., Ltd., Coronal Enterprise Co., Ltd.

• Dongguan Kin Feng Furniture Co., Ltd.

• Dongguan Kingstone Furniture Co., Ltd., Kingstone Furniture Co., Ltd.

• Dongguan Liaobushangdun Huada Furniture Factory, Great Rich (HK) Enterprise Company² Limited¹

• Dongguan Lung Dong Furniture Co., Ltd., Dongguan Dong He Furniture Co., Ltd.

• Dongguan Qingxi Xinyi Craft Furniture Factory (Joyce Art Factory)

• Dongguan Singways Furniture Co., Ltd.

• Dongguan Sundart Timber Products Co., Ltd.

• Dongying Huanghekou Furniture Industry Co., Ltd.

• Dorbest Limited.,¹ Rui Feng Woodwork Co., Ltd., Rui Feng Lumber Development Co., Ltd., a.k.a. Dorbest Ltd.,³ Rui Feng Woodwork (Dongguan) Co., Ltd., Rui Feng Lumber Development (Shenzen) Co., Ltd.

• Dream Rooms Furniture (Shanghai) Co., Ltd.

• Eurosa (Kunshan) Co., Ltd., Eurosa Furniture Co., (PTE) Ltd.

• Evershine Enterprise Co.

• Fine Furniture (Shanghai) Ltd.

• Gainwell Industries Limited, Zhongshan Yiming Furniture Co., Ltd., Zhongshan Fengheng Furniture Co., Ltd., Guangdong Gainwell Industrial Furniture Co., Ltd., Northeast Lumber Co., Ltd.

• Garri Furniture (Dong Guan) Co., Ltd., Molabile International, Inc., Weei Geo Enterprise Co., Ltd.

• Guangdong Yihua Timber Industry Co., Ltd.

• Guangzhou Maria Yee Furnishings Ltd., Pyla HK, Ltd., Maria Yee, Inc.

• Hainan Jong Bao Lumber Co., Ltd., Jibbon Enterprise Co., Ltd.

• Hang Hai Woodcraft's Art Factory

• Hong Kong Jingbi Group

• Hong Yu Furniture (Shenzhen) Co. Ltd.

• Hualing Furniture (China) Co., Ltd., Tony House Manufacture (China) Co., Ltd., Buysell Investments Ltd., Tony House Industries Co., Ltd.

• Jardine Enterprise, Ltd.

• Jiangmen Kinwai Furniture Decoration Co., Ltd.

• Jiangmen Kinwai International Furniture Co., Ltd.

• Jiangsu Weifu Group Fullhouse Furniture Mfg.⁴ Corp.

• Jiangsu XiangSheng Bedtime Furniture Co., Ltd.

• Jiangsu Yuexing Furniture Group Co., Ltd.

• Jiedong Lehouse Furniture Co., Ltd.

• Kuan Lin Furniture (Dong Guan) Co., Ltd., Kuan Lin Furniture Factory, Kuan Lin Furniture Co., Ltd.

• Kunshan Lee Wood Product Co., Ltd.

• Kunshan Summit Furniture Co., Ltd.

• Kunwa Enterprise Company

• Leefu Wood (Dongguan) Co., Ltd., King Rich International, Ltd.

• Link Silver Ltd. (V.I.B.), Forward Win Enterprises Company ² Limited,¹ Dongguan Haoshun Furniture Ltd.

• Locke Furniture Factory, Kai Chan Furniture Co., Ltd., Kai Chan (Hong Kong) Enterprise Limited,¹ Taiwan Kai Chan Co., Ltd.

• Meikangchi (Nantong) Furniture Company Ltd.

• MoonArt Furniture Group, MoonArt International Inc.

• Nanhai Baiyi Woodwork Co., Ltd.

• Nanhai Jiantai Woodwork Co., Ltd., Fortune Glory Industrial Ltd. (H.K. Ltd.)

• Nanjing Jardine Enterprise Ltd.

• Nantong Dongfang Orient Furniture Co., Ltd.

• Nantong Yushi Furniture Co., Ltd.

• Nathan International Ltd., Nathan Rattan Factory

• Ningbo Furniture Industries Company, Ltd.

• Ningbo Fubang Furniture Industries Limited

• Ningbo Techniwood Furniture Industries Limited

• Orient International Holding Shanghai Foreign Trade Co., Ltd.

• Perfect Line Furniture Co., Ltd.

• Passwell Wood Corporation

• Pleasant Wave Limited,¹ Passwell Corporation

• Prime Wood International Co., Ltd, Prime Best International Co., Ltd., Prime Best Factory, Liang Huang (Jiaxing) Enterprise Co., Limited ¹

• Putian JingGong Furniture Co., Ltd.⁵

• Qingdao Liangmu Co., Ltd.

• Restonic (Dongguan) Furniture Ltd., Restonic Far East (Samoa) Ltd.

• RiZhao SanMu Woodworking Co., Ltd.

• Season Furniture Manufacturing Co., Season Industrial Development Co.

• Sen Yeong International Co., Ltd., Sheh Hau International Trading Ltd.

• Shanghai Jian Pu Export & Import Co., Ltd.

• Shanghai Maoji Imp and Exp Co., Ltd.

• Shanghai Season Industry & Commerce Co., Ltd.

• Sheng Jing Wood Products (Beijing) Co., Ltd., Telstar Enterprises Ltd.

• Shenyang Shining Dongxing Furniture Co., Ltd.

• Shenzhen Forest Furniture Co., Ltd.

• Shenzhen Jiafa High Grade Furniture Co., Ltd., Golden Lion International Trading Ltd.

• Shenzhen New Fudu Furniture Co., Ltd.

• Shenzhen Tiancheng Furniture Co., Ltd., Winbuild Industrial Ltd., Red Apple Furniture Co., Ltd., Red Apple Trading Co., Ltd.

• Shenzhen Wonderful Furniture Co., Ltd.

• Shenzhen Xiande Furniture Factory

• Shenzhen Xingli Furniture Co., Ltd.

• Shing Mark Enterprise Co., Ltd., Carven Industries Limited (BVI), Carven Industries Limited (HK), Dongguan Zhenxin Furniture Co., Ltd., Dongguan Yongpeng Furniture Co., Ltd.

• Songgang Jasonwood Furniture Factory, Jasonwood Industrial Co., Ltd. S.A.

• Starcorp Furniture Co., Ltd., Starcorp Furniture (Shanghai) Co., Ltd., Orin Furniture (Shanghai) Co. Ltd., Shanghai Star Furniture Co., Ltd., Shanghai XingDing Furniture Industrial Co., Ltd.

• Starwood Industries Ltd.

• Strongson Furniture (Shenzhen) Co., Ltd., Strongson Furniture Co., Ltd., Strongson (HK) Co.

• Sunforce Furniture (Hui-Yang) Co., Ltd., Sun Fung Wooden Factory, Sun Fung Company,² Shin Feng Furniture Co., Ltd., Stupendous International Co., Ltd.

• Superwood Co., Ltd., Lianjiang Zongyu Art Products Co., Ltd.

• T.J. Maxx International Co., Ltd.

• Tarzan Furniture Industries Ltd., Samso Industries Ltd.

• Teamway Furniture (Dong Guan) ⁶ Ltd., Brittomart Inc.

• Techniwood Industries Ltd., Ningbo Furniture Industries Limited, Ningbo Hengrun Furniture Company ² Limited ¹

• Techniwood (Macao Commercial Offshore) Limited

• Tianjin Master Home Furniture

• Tianjin Phu Shing Woodwork Enterprise Co., Ltd.

• Tianjin Sande Fairwood Furniture Co., Ltd.

• Top Art Furniture Factory, Sanxiang Top Art Furniture, Ngai Kun Trading

• Tradewinds Furniture Ltd., Fortune Glory Industrial Ltd.⁷ (H.K. Ltd.) ⁸

• Tradewinds International Enterprise Ltd.

• Tube-Smith Enterprise (Zhangzhou) Co., Ltd., Tube-Smith Enterprise (Haimen) Co., Ltd., Billionworth Enterprises Ltd.

• U-Rich Furniture (Zhangzhou) Co., Ltd., U-Rich Furniture Ltd.

• Wanhengtong Nueevder (Furniture) Manufacture Co., Ltd., Dongguan Wanengtong Industry Co., Ltd.

• Woodworth Wooden Industries (Dong Guan) Co., Ltd.

• World Design International Co., Ltd.

• Xiamen Yongquan Sci-Tech Development Co., Ltd.

• Xilinmen Group Co. Ltd.

• Yida Co., Ltd., Yitai Worldwide, Ltd., Yili Co., Ltd., Yetbuild Co., Ltd.

• Yihua Timber Industry Co., Ltd.

• Zhang Zhou Sanlong Wood Product Co., Ltd.

• Zhangjiagang Daye Hotel Furniture Co., Ltd.

• Zhangjiagang Zheng Yan Decoration Co., Ltd.

• Zhangjiang Sunwin Arts & Crafts Co., Ltd.

• Zhangzhou Guohui Industrial & Trade Co., Ltd.

• Zhong Shan Fullwin Furniture Co., Ltd.

• Zhongshan Fookyik Furniture Co., Ltd.

• Zhongshan Golden King Furniture Industrial Co., Ltd.

• Zhoushan For-Strong Wood Co., Ltd.

¹ We have used “Limited”, rather than the abbreviation “Ltd.” that was used in the Initiation Notice, because “Limited” is used in the Automated Commercial System Module (ACS Module) (i.e., the Antidumping/Countervailing Duty Module).

² We have used “Company”, rather than the abbreviation “Co.” that was used in the Initiation Notice, because “Company” is used in the ACS Module.

³ We have used the abbreviation “Ltd.”, rather than the word “Limited” that was used in the Initiation Notice, because “Ltd.” is used after “a.k.a. Dorbest” in the ACS Module.

⁴ We have used the abbreviation “Mfg.”, rather than the word “Manufacturing” that was used in the Initiation Notice, because “Mfg.” is used in the ACS Module.

⁵ The Initiation Notice contained a capitalization error with respect to this company name, which we have corrected.

⁶ The abbreviation “Co.” incorrectly appeared after “(Dong Guan)” in the Initiation Notice. We have removed this abbreviation from the name of the company.

⁷ We have used the abbreviation “Ltd.”, rather than the word “Limited” that was used in the Initiation Notice, because “Ltd.” is used in the ACS Module.

⁸ The reference “(H.K. Ltd.)” was inadvertently omitted from the name in the Initiation Notice.

Assessment

The Department will instruct U.S. Customs and Border Protection (CBP) to assess antidumping duties on all appropriate entries. For the companies listed above which had a separate rate granted in a previously completed segment of this proceeding that was in effect during the instant review period, antidumping duties shall be assessed on entries subject to the separate rate at rates equal to the cash deposit of estimated antidumping duties required at the time of entry, or withdrawal from warehouse, for consumption, in accordance with 19 CFR 351.212(c)(1)(i). The Department intends to issue appropriate assessment instructions for such companies directly to CBP 15 days after the publication of this notice in the Federal Register. For any of the companies listed above that were part of the PRC-wide entity during the instant review period, the Department will issue assessment instructions on entries subject to the PRC-wide rate upon the completion of this administrative review. The companies from the above list for which the Department will not issue assessment instructions until the completion of the instant review are as follows:

Ace Furniture & Crafts Ltd. (a.k.a. Deqing Ace Furniture and Crafts Limited)

Asia Building Materials Limited

C.F. Kent Co., Inc., C.F. Kent Hospitality, Inc., Shanghai Kent Furniture Co., Ltd., Shanghai Hospitality Product Mfg., Co., Ltd.

Contact Co., Ltd.

Denny's Furniture Associates Corp., Denny's International Co., Ltd.

Der Cheng Wooden Works, Der Cheng Furniture Co., Ltd.

Dongguan Bon Ten Furniture Co., Ltd.⁹

⁹ Dongguan Bon Ten Furniture Co., Ltd. received a separate combination rate on October 31, 2008 (See Wooden Bedroom Furniture from the People's Republic of China: Final Results of Fourth New Shipper Reviews, 73 FR 64916 (October 31, 2008). This rate only applied to entries on or after October 31, 2008, where Dongguan Bon Ten Furniture Co., Ltd. was both the exporter and the producer of the subject merchandise. All other entries of subject merchandise from Dongguan Bon Ten Furniture Co., Ltd. during 2008 are subject to the PRC-wide rate. Assessment instructions for 2008 entries to which the PRC-wide rate applies will not be issued until completion of the instant review.

Dongguan Qingxi Xinyi Craft Furniture Factory (Joyce Art Factory)

Dongguan Sundart Timber Products Co., Ltd.

Evershine Enterprise Co.

Gainwell Industries Limited, Zhongshan Yiming Furniture Co., Ltd., Zhongshan Fengheng Furniture Co., Ltd., Guangdong Gainwell Industrial Furniture Co., Ltd., Northeast Lumber Co., Ltd.

Guangdong Yihua Timber Industry Co., Ltd.

Hong Kong Jingbi Group

Hong Yu Furniture (Shenzhen) Co. Ltd.

Kunwa Enterprise Company

MoonArt Furniture Group, MoonArt International Inc.

Nanjing Jardine Enterprise Ltd.

Ningbo Fubang Furniture Industries Limited

Ningbo Furniture Industries Company, Ltd.

Ningbo Techniwood Furniture Industries Limited

Passwell Wood Corporation

Shanghai Season Industry & Commerce Co., Ltd.

Starcorp Furniture Co., Ltd., Starcorp Furniture (Shanghai) Co., Ltd., Orin Furniture (Shanghai) Co. Ltd., Shanghai Star Furniture Co., Ltd., Shanghai XingDing Furniture Industrial Co., Ltd.

T.J. Maxx International Co., Ltd.

Techniwood (Macao Commercial Offshore) Limited

Tianjin Sande Fairwood Furniture Co., Ltd.

Top Art Furniture Factory, Sanxiang Top Art Furniture, Ngai Kun Trading

Tradewinds International Enterprise Ltd.

World Design International Co., Ltd.

Xilinmen Group Co. Ltd.

In addition, pursuant to an injunction issued in Dorbest Ltd. v. United States, CIT No. 05-0003, on June 3, 2008, the Department must continue to suspend liquidation of entries made by Dorbest Limited., Rui Feng Woodwork (Dongguan) Co., Ltd., and Rui Feng Lumber Development (Shenzen) Co., Ltd. on or after January 1, 2008, pending a conclusive court decision.

The review will continue with respect to all other entities identified in the Initiation Notice.

Notification to Importers

This notice serves as a final reminder to importers whose entries will be liquidated as a result of this rescission notice, of their responsibility under 19 CFR 351.402(f) to file a certificate regarding the reimbursement of antidumping duties prior to liquidation of the relevant entries during this review period. Failure to comply with this requirement could result in the Secretary's assumption that reimbursement of antidumping duties occurred and subsequent assessment of double antidumping duties.

Notification Regarding Administrative Protective Orders (APOs)

This notice also serves as a reminder to parties subject to APOs of their responsibility concerning the return or destruction of proprietary information disclosed under an APO in accordance with 19 CFR 351.305(a)(3), which continues to govern business proprietary information in this segment of the proceeding. Timely written notification of the return/destruction of APO materials or conversion to judicial protective order is hereby requested. Failure to comply with the regulations and terms of an APO is a violation which is subject to sanction.

This notice is issued and published in accordance with section 777(i)(1) of the Act, and 19 CFR 351.213(d)(4).

Dated: August 26, 2009.
John M. Andersen,
Acting Deputy Assistant Secretary for Antidumping and Countervailing Duty Operations.

[FR Doc. E9-21201 Filed 9-1-09; 8:45 am]

BILLING CODE 3510-DS-S